DEPARTMENT OF HEALTH AND HUMAN SERVICES

Office of the Secretary

[Document Identifier 0990-0421-30D]

Agency Information Collection Activities; Submission to OMB for Review and Approval; Public Comment Request

AGENCY: Office of the Secretary, HHS.

ACTION: Notice.

SUMMARY: In compliance with the Paperwork Reduction Act of 1995, the Office of the Secretary (OS), Department of Health and Human Services, has submitted an Information Collection Request (ICR), described below, to the Office of Management and Budget (OMB) for review and approval. The ICR is for revision of the approved information collection assigned OMB control number 0990-0421, scheduled to expire on July 31, 2017. Comments submitted during the first public review of this ICR will be provided to OMB. OMB will accept further comments from the public on this ICR during the review and approval period.

DATES: Comments on the ICR must be received on or before August 7, 2017.

ADDRESSES: Submit your comments to OIRA_submission@omb.eop.gov or via facsimile to (202) 395-5806.

FOR FURTHER INFORMATION CONTACT: Sherrette Funn, Sherette.Funn@hhs.gov or (202) 795-7714.

SUPPLEMENTARY INFORMATION: When submitting comments or requesting information, please include the document identifier 0990-0421-30D for reference.

Information Collection Request Title: ASPE Generic Clearance for the Collection of Qualitative Research and Assessment.

OMB No.: 0990-0421.

Abstract: The Office of the Assistant Secretary for Planning and Evaluation (ASPE) is requesting an extension for their generic clearance for purposes of conducting qualitative research. ASPE conducts qualitative research to gain a better understanding of emerging health and human services policy issues, develop future intramural and extramural research projects, and to ensure HHS leadership, agencies and offices have recent data and information to inform program and policy decision-making. ASPE is requesting approval for at least four types of qualitative research which include, but are not limited to: (a) Interviews, (b) focus groups, (c) questionnaires, and (d) other qualitative methods.

ASPE's mission is to advise the Secretary of the Department of Health and Human Services on policy development in health, disability, human services, data, and science, and provides advice and analysis on economic policy. ASPE leads special initiatives, coordinates the Department's evaluation, research and demonstration activities, and manages cross-Department planning activities such as strategic planning, legislative planning, and review of regulations. Integral to this role, ASPE will use this mechanism to conduct qualitative research, evaluation, or assessment, conduct analyses, and understand needs, barriers, or facilitators for HHS-related programs.

ASPE is requesting comment on the burden for qualitative research aimed at understanding emerging health and human services policy issues. The goal of developing these activities is to identify emerging issues and research gaps to ensure the successful implementation of HHS programs. The participants may include health and human services experts; national, state, and local health or human services representatives; public health, human services, or healthcare providers; and representatives of other health or human services organizations. The increase in burden from 747 in 2014 to 1,500 respondents in 2017 reflects an increase in the number of research projects conducted over the estimate in 2014.

Need and Proposed Use of the Information: The information collected for qualitative policy research and assessment will be used by ASPE to develop future intramural and extramural research projects and to shape emerging health and human services policy issues for HHS leadership, agencies, and offices. The end purpose is to obtain broad and diverse perspectives on public health, human service, and health care issues to understand emerging issues, promising practices by innovative programs or organizations funded by HHS, or examining health or human service policy issues that have as yet gone unanswered or need further examination. Additionally, ASPE will collect, analyze, and interpret information gathered through this generic clearance to identify strengths and weaknesses of current programs, policies, and services.

Likely Respondents: Respondents have typically been stakeholders from the health and human services fields such as state health officers, human service professionals, groups that represent health or human services interests or populations, individual experts in the fields of health, human services, science, data, or other relevant professions, and other individuals and groups relevant to the work conducted by ASPE and HHS.

The total annual burden hours estimated for this ICR are summarized in the table below.

Total Estimated Annualized Burden—Hours
Form name | Number of respondents | Number of responses per respondent | Average burden per response (in hours) | Total burden hours
Health or Human Services Stakeholder | 2,000 | 1 | 1 | 2,000
Total | 2,000 | 1 | 1 | 2,000

Terry S. Clark,
Asst. Information Collection Clearance Officer.

[FR Doc. 2017-14211 Filed 7-5-17; 8:45 am]

BILLING CODE 4150-05-P